DEPARTMENT OF HOMELAND SECURITY

Coast Guard

33 CFR Part 117

[Docket No. CGD07-07-251]

Drawbridge Operation Regulations; Atlantic Intracoastal Waterway, New Smyrna Beach, Volusia County, FL

AGENCY: Coast Guard, DHS.

ACTION: Notice of temporary deviation from regulations.

SUMMARY: The Commander, Seventh Coast Guard District, has issued a temporary deviation from the regulation governing the operation of the George C. Musson/Coronado Beach (SR 44) Bridge across the Atlantic Intracoastal Waterway, mile 845, at New Smyrna Beach, Volusia County, Florida. This deviation is necessary to expedite repairs to the George C. Musson/Coronado Beach Bridge. This deviation allows the bridge to open on signal, except during daylight hours, during which the bridge will open twice.

DATES: This deviation is effective from November 9, 2007 through 4:50 p.m. on December 21, 2007.

ADDRESSES: Materials referred to in this document are available for inspection or copying at Commander (dpb), Seventh Coast Guard District, 909 S.E. 1st Avenue, Room 432, Miami, Florida 33131 between 7 a.m. and 4 p.m., Monday through Friday, except Federal holidays. The telephone number is (305) 415-6744. The Seventh Coast Guard District Bridge Administration Branch maintains the public docket for this temporary deviation.

FOR FURTHER INFORMATION CONTACT: Mr. Michael Lieberum, Bridge Branch, (305) 415-6744 or e-mail michael.b.lieberum@uscg.mil.

SUPPLEMENTARY INFORMATION: M&J Construction, on behalf of the bridge owner, has requested a deviation to the regulations published in 33 CFR 117.261(h) which states the Coronado Beach Bridge (SR 44), mile 845, shall open on signal, except that from 7 a.m. until 7 p.m., each day of the week, the draw need only open on the hour, twenty minutes past the hour, and forty minutes past the hour.

This deviation is necessary for worker safety and to expedite repairs to the George C. Musson/Coronado Beach (SR 44) Bridge. This deviation will remain in effect from November 9, 2007 through 4:50 p.m. on December 21, 2007.

The George C. Musson/Coronado Beach (SR 44) Bridge will open on signal, except that from 7:35 a.m. to 4:50 p.m. the bridge will only open at 10:30 a.m. and 1:30 p.m. Public vessels of the United States and tugs with tows are requested to provide at least two hours advance notice to the bridge tender to request an opening. Vessels in a situation where a delay would endanger life or property will be allowed to pass at any time, upon signal.

Due to scaffolding, the vertical clearance of this bridge will be reduced by four feet in the closed position throughout the length of this project.

In accordance with 33 CFR 117.35(e), the drawbridge must return to its regular operating schedule immediately at the end of the designated time period. This deviation from the operating regulations is authorized under 33 CFR 117.35.

Dated: October 29, 2007.
Greg Shapley,
Chief, Bridge Administration, Seventh Coast Guard District.

[FR Doc. E7-22067 Filed 11-8-07; 8:45 am]

BILLING CODE 4910-15-P